ARCHITECTURAL AND TRANSPORTATION BARRIERS COMPLIANCE BOARD

36 CFR Parts 1193 and 1194

RIN 3014-AA22

Telecommunications Act Accessibility Guidelines; Electronic and Information Technology Accessibility Standards

AGENCY: Architectural and Transportation Barriers Compliance Board.

ACTION: Notice of meeting.

SUMMARY: The Architectural and Transportation Barriers Compliance Board (Access Board) has established a Telecommunications and Electronic and Information Technology Advisory Committee (Committee) to assist it in revising and updating accessibility guidelines for telecommunications products and accessibility standards for electronic and information technology. This notice announces the dates and times of four upcoming conference calls.

DATES: The conference calls are scheduled for October 9, October 16, October 23 and October 30, 2007 (beginning at 1 p.m. and ending at 3 p.m. Eastern time each day).

ADDRESSES: Individuals can participate in the conference calls by dialing into the teleconference numbers which will be posted on the Access Board's Web site at: http://www.access-board.gov/sec508/update-index.htm.

FOR FURTHER INFORMATION CONTACT: Timothy Creagan, Office of Technical and Information Services, Architectural and Transportation Barriers Compliance Board, 1331 F Street, NW., suite 1000, Washington, DC 20004-1111. Telephone number: 202-272-0016 (Voice); 202-272-0082 (TTY). Electronic mail address: creagan@access-board.gov.

SUPPLEMENTARY INFORMATION: The Architectural and Transportation Barriers Compliance Board (Access Board) established the Telecommunications and Electronic and Information Technology Advisory Committee (Committee) to assist it in revising and updating accessibility guidelines for telecommunications products and accessibility standards for electronic and information technology. The next committee meetings will take place on October 9, 16, 23 and 30, 2007 (all four meetings will be from 1 p.m. to 3 p.m. Eastern time) by teleconference. The meetings will focus on issues yet to be resolved by the Committee. The agendas, instructions (including information on captioning), and dial-in telephone numbers for the teleconferences are available at: http://www.access-board.gov/sec508/update-index.htm. Notices of future meetings will be published in the Federal Register.

The Committee may cancel any one of these four teleconferences before they are scheduled to take place depending on the needs of the committee and its progress in discussing and resolving outstanding issues. Notices of cancellation of any of these teleconferences will be posted at: http://www.access-board.gov/sec508/update-index.htm.

The conference calls are open to the public and interested persons can dial into the teleconferences and communicate their views. Members of the public will have opportunities to address the committee on issues of interest to them and the committee during public comment periods scheduled during each conference call. Participants may call into the teleconferences from any location of their choosing.

Lawrence W. Roffee,
Executive Director.

[FR Doc. E7-18492 Filed 9-18-07; 8:45 am]

BILLING CODE 8150-01-P